DEPARTMENT OF ENERGY

Federal Energy Regulatory Commission

[Docket No. CP22-21-000; Docket No. CP22-22-000]

Venture Global CP2 LNG, LLC, Venture Global CP Express, LLC; Notice of Revised Schedule for Environmental Review of the CP2 Lng and CP Express Projects

This notice provides the Federal Energy Regulatory Commission staff's revised schedule for the completion of the environmental impact statement (EIS) for Venture Global CP2 LNG, LLC's (CP2 LNG) and Venture Global CP Express, LLC's (CP Express) CP2 LNG and CP Express Projects. The first notice of schedule, issued on February 9, 2022, identified February 10, 2023 as the final EIS issuance date. However, a number of responses to environmental and engineering data requests continue to remain outstanding and/or are deficient.¹ These outstanding responses are necessary for staff to prepare a draft EIS for the projects. Based upon CP2 LNG's and CP Express' commitment to provide complete responses to the outstanding data requests by August 30, 2022, staff has revised the schedule for issuance of the final EIS and anticipates issuing a draft EIS in January 2023.

¹ On July 6, 2022 the Commission issued a notice suspending the environmental review schedule for these projects based upon CP2 LNG's and CP Express' failure to file complete and timely information necessary for staff to prepare a draft EIS.

Schedule for Environmental Review

Issuance of the Notice of Availability of the final EIS—July 28, 2023

90-day Federal Authorization Decision Deadline ²—October 26, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-21 and CP22-22), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 23, 2022.
Kimberly D. Bose,
Secretary.

[FR Doc. 2022-18560 Filed 8-26-22; 8:45 am]

BILLING CODE 6717-01-P